DEPARTMENT OF COMMERCE

International Trade Administration

[A-533-883]

Glycine From India: Preliminary Results and Rescission, in Part, of Antidumping Duty Administrative Review; 2023-2024

AGENCY: Enforcement and Compliance, International Trade Administration, Department of Commerce.

SUMMARY: The U.S. Department of Commerce (Commerce) preliminarily finds that certain producers and/or exporters subject to this administrative review made sales of subject merchandise at less than normal value during the period of review (POR) June 1, 2023, through May 31, 2024. Interested parties are invited to comment on these preliminary results.

DATES: Applicable November 18, 2025.

FOR FURTHER INFORMATION CONTACT: Tyler R. Weinhold or Harrison Tanchuck, AD/CVD Operations, Office VI, Enforcement and Compliance, International Trade Administration, U.S. Department of Commerce, 1401 Constitution Avenue NW, Washington, DC 20230; telephone: (202) 482-1121 or (202) 482-7421, respectively.

SUPPLEMENTARY INFORMATION:

Background

On June 21, 2019, Commerce published in the Federal Register an antidumping duty order on glycine from India.¹ On June 3, 2024, Commerce published in the Federal Register a notice of opportunity to request an administrative review of the Order.² On July 29, 2024, Commerce published the notice of initiation of the administrative review of the Order, covering 25 foreign producers and/or exporters.³ On December 9, 2024, Commerce tolled certain deadlines in this administrative proceeding by 90 days.⁴ On April 22, 2025, we extended the time limit for completion of these preliminary results to September 26, 2025, in accordance with section 751(a)(3)(A) of the Tariff Act of 1930, as amended (the Act).⁵

¹ See Glycine from India and Japan: Amended Final Affirmative Antidumping Duty Determination and Antidumping Duty Orders, 84 FR 29170 (June 21, 2019) (Order).

² See Antidumping or Countervailing Duty Order, Finding, or Suspended Investigation; Opportunity to Request Administrative Review and Join Annual Inquiry Service List, 89 FR 47520 (June 3, 2024).

³ See Initiation of Antidumping and Countervailing Duty Administrative Reviews, 89 FR 60874 (July 29, 2024) (Initiation Notice).

⁴ See Memorandum, “Tolling of Deadlines for Antidumping and Countervailing Duty Proceedings,” dated December 9, 2024.

⁵ See Memorandum, “Extension of Deadline for Preliminary Results of Antidumping Duty Administrative Review; 2023-2024,” dated April 22, 2025.

Scope of the Order

The product covered by the scope of the Order is glycine from India. For a complete description of the scope of the Order, see the Preliminary Decision Memorandum.⁶

⁶ See Memorandum, “Decision Memorandum for the Preliminary Results of the Administrative Review of the Antidumping Duty Order on Glycine from India; 2022-2023,” dated concurrently with, and hereby adopted by, this notice (Preliminary Decision Memorandum).

Partial Rescission of Administrative Review

Pursuant to 19 CFR 351.213(d)(1), Commerce will rescind an administrative review, in whole or in part, if the parties that requested a review withdraw the request within 90 days of the date of publication of the notice of initiation. All review requests were timely withdrawn for all companies listed in the Initiation Notice, except for: (1) Bajaj Healthcare Limited (Bajaj); (2) Kumar Industries; and (3) Paras Intermediaries Private Limited.⁷ Therefore, in accordance with 19 CFR 351.213(d)(1), Commerce is partially rescinding this review of the Order for these 22 companies.

⁷ See Deer Park Glycine, LLC's Letters, “Partial Withdrawal of Request for Administrative Review” and “Withdrawal of Request for Administrative Review of 23 Companies,” dated October 11, 2024, and October 25, 2024, respectively; see also Avid Organics Private Limited's Letter, “Withdrawal of Review Request of Anti-Dumping Duty Administrative Review,” dated October 28, 2024.

Pursuant to 19 CFR 351.213(d)(3), it is Commerce's practice to rescind an administrative review of an antidumping duty order where it concludes that there were no suspended entries of subject merchandise during the POR.⁸ Normally, upon completion of an administrative review, the suspended entries are liquidated at the antidumping duty assessment rate for the review period.⁹ Therefore, for an administrative review to be conducted, there must be a reviewable, suspended entry that Commerce can instruct U.S. Customs and Border Protection (CBP) to liquidate at the calculated antidumping duty assessment rate for the review period.¹⁰ Commerce notified all interested parties of its intent to rescind the instant review regarding Bajaj because there were no reviewable, suspended entries of subject merchandise from this company during the POR and invited interested parties to comment.¹¹ We received no comments. In the absence of any suspended entries of subject merchandise from Bajaj during the POR, we are rescinding this administrative review with respect to Bajaj, in accordance with 19 CFR 351.213(d)(3).

⁸ See, e.g., Certain Carbon and Alloy Steel Cut-to Length Plate from the Federal Republic of Germany: Recission of Antidumping Administrative Review; 2020-2021, 88 FR 4154 (January 24, 2023).

⁹ See 19 CFR 351.212(b)(1).

¹⁰ See, e.g., Shanghai Sunbeauty Trading Co. v. United States, 380 F.Supp.3d 1328, 1337 (CIT 2019), at 12 (referring to section 751(a) of the Act, the U.S. Court of International Trade held that “{w}hile the statute does not explicitly require that an entry be suspended as a prerequisite for establishing entitlement to a review, it does explicitly state the determined rate will be used as the liquidation rate for the reviewed entries. This result can only obtain if the liquidation of entries has been suspended”; see also Certain Frozen Fish Fillets from the Socialist Republic of Vietnam: Final Results of Antidumping Duty Administrative Review and Final Determination of No Shipments; 2018-2019, 86 FR 36102, and accompanying Issues and Decision Memorandum at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

¹¹ See Memorandum, “Notice of Intent to Rescind Review,” dated November 15, 2024.

The companies for which Commerce is rescinding this administrative review are identified in Appendix II of this notice.

Methodology

Commerce is conducting this review in accordance with section 751(a) of the Act. For a full description of the methodology underlying these preliminary results, see the Preliminary Decision Memorandum.¹² A list of the topics discussed in the Preliminary Decision Memorandum is included in Appendix I. The Preliminary Decision Memorandum is a public document and is on file electronically via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

¹² See Preliminary Decision Memorandum.

Preliminary Results of Review

We preliminarily determine that the following estimated weighted-average dumping margins exist for the period June 1, 2023, through May 31, 2024:

Exporter/producer | Weighted-average dumping margin (percent)
Paras Intermediates Private Limited | 0.00
Kumar Industries | 39.12

Disclosure

Commerce intends to disclose to interested parties its calculations performed in these preliminary results, within five days of any public announcement or, if there is no public announcement, within five days of the date of publication of this notice in the Federal Register, in accordance with 19 CFR 351.224(b).

Public Comment

Case briefs or other written comments may be submitted to the Assistant Secretary for Enforcement and Compliance.¹³ Pursuant to 19 CFR 351.309(c)(1)(ii), we have modified the deadline for interested parties to submit case briefs to Commerce no later than 21 days after the date of the publication of this notice. Rebuttal briefs, limited to issues raised in the case briefs, may be filed not later than five days after the date for filing case briefs.¹⁴ Interested parties who submit case briefs or rebuttal briefs in this proceeding must submit: (1) a table of contents listing each issue; and (2) a table of authorities.¹⁵

¹³ See 19 CFR 351.309(c)(1)(ii); see also 19 CFR 351.303 (for general filing requirements).

¹⁴ See 19 CFR 351.309(d); see also Administrative Protective Order, Service, and Other Procedures in Antidumping and Countervailing Duty Proceedings, 88 FR 67069, 67077 (September 29, 2023) (APO and Service Procedures).

¹⁵ See 19 CFR 351.309(c)(2) and (d)(2).

As provided under 19 CFR 351.309(c)(2) and (d)(2), in prior proceedings we have encouraged interested parties to provide an executive summary of their brief that should be limited to five pages total, including footnotes. In this administrative review, we instead request that interested parties provide, at the beginning of their briefs, a public executive summary for each issue raised in their briefs.¹⁶ Further, we request that interested parties limit their public executive summary of each issue to no more than 450 words, not including citations. We intend to use the public executive summaries as the basis of the comment summaries included in the issues and decision memorandum that will accompany the final determination in this investigation. We request that interested parties include footnotes for relevant citations in the public executive summary of each issue. Note that Commerce has amended certain of its requirements pertaining to the service of documents in 19 CFR 351.303(f).¹⁷

¹⁶ We use the term “issue” here to describe an argument that Commerce would normally address in a comment of the Issues and Decision Memorandum.

¹⁷ See APO and Service Procedures.

Pursuant to 19 CFR 351.310(c), interested parties who wish to request a hearing must submit a written request to the Assistant Secretary for Enforcement and Compliance, U.S. Department of Commerce, within 30 days after the date of publication of this notice. Requests should contain: (1) the party's name, address, and telephone number; (2) the number of participants and whether any participant is a foreign national; and (3) a list of the issues to be discussed. Issues raised in the hearing will be limited to those raised in the respective case briefs. Oral presentations at the hearing will be limited to issues raised in the briefs. If a request for a hearing is made, parties will be notified of the time and date for the hearing.¹⁸ Parties should confirm by telephone the date, time, and location of the hearing two days before the scheduled date.

¹⁸ See 19 CFR 351.310(d).

All submissions, including case and rebuttal briefs, as well as hearing requests, should be filed via ACCESS.¹⁹ An electronically filed document must be received successfully in its entirety by ACCESS by 5:00 p.m. Eastern Time on the established deadline.

¹⁹ See 19 CFR 351.303.

Final Results of Review

Commerce intends to issue the final results of this administrative review, including the results of its analysis of the issues raised in any written briefs, no later than 120 days after the date of publication of this notice in the Federal Register, unless extended, pursuant to section 751(a)(3)(A) of the Act and 19 CFR 351.213(h)(1).

Assessment Rates

Upon completion of this administrative review, pursuant to section 751(a)(2)(A) of the Act, Commerce shall determine, and U.S. Customs and Border Protection (CBP) shall assess, antidumping duties on all appropriate entries covered by this review. If the weighted-average dumping margin for a mandatory respondent is not zero or de minimis in the final results of this review, we will calculate an importer-specific assessment rate on the basis of the ratio of the total amount of dumping calculated for each importer's examined sales and the total entered value of such sales in accordance with 19 CFR 351.212(b)(1).²⁰ If the weighted-average dumping margin is zero or de minimis in the final results of review, or if an importer-specific assessment rate is zero or de minimis, Commerce will instruct CBP to liquidate appropriate entries without regard to antidumping duties.²¹ For entries of subject merchandise during the POR produced by the respondent(s) for which it did not know its merchandise was destined for the United States, we will instruct CBP to liquidate such entries at the all-others rate ²² if there is no rate for the intermediate company(ies) involved in the transaction.²³ The final results of this administrative review shall be the basis for the assessment of antidumping duties on entries of merchandise under review and for future cash deposits of estimated antidumping duties, where applicable.

²⁰ See Antidumping Proceedings: Calculation of the Weighted-Average Dumping Margin and Assessment Rate in Certain Antidumping Proceedings: Final Modification, 77 FR 8101, 8103 (February 14, 2012).

²¹ Id., 77 FR at 8102-03; see also 19 CFR 351.106(c)(2).

²² The all-others rate is 13.61 percent. See Glycine from India: Final Determination of Sales at Less Than Fair Value, 84 FR 18487 (May 1, 2019).

²³ See Antidumping and Countervailing Duty Proceedings: Assessment of Antidumping Duties, 68 FR 23954 (May 6, 2003).

For the companies for which we are rescinding this administrative review, antidumping duties shall be assessed at rates equal to the cash deposit of estimated antidumping duties required at the time of entry, or withdrawal from warehouse, for consumption, during the period of review, in accordance with 19 CFR 351.212(c)(1)(i). For these companies, Commerce intends to issue assessment instructions to CBP no earlier than 35 days after the date of publication of these preliminary results in the Federal Register.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). The final results of this administrative review shall be the basis for the assessment of antidumping duties on entries of merchandise under review and for future cash deposits of estimated antidumping duties, where applicable.²⁴

²⁴ See section 751(a)(2)(C) of the Act.

Cash Deposit Requirements

The following cash deposit requirements will be effective upon publication in the Federal Register of the final results of this administrative review for all shipments of the subject merchandise entered, or withdrawn from warehouse, for consumption on or after the date of publication, as provided by section 751(a)(2)(C) of the Act: (1) the cash deposit rate for companies subject to this review will be equal to the company-specific weighted-average dumping margin established in the final results of this administrative review; (2) for merchandise exported by a company not covered in this review but covered in a prior segment of the proceeding, the cash deposit rate will continue to be the company-specific rate published in the completed segment for the most recent period; (3) if the exporter is not a firm covered in this review, a prior review, or the less-than-fair-value investigation but the producer is, then the cash deposit rate will be the rate established in the most recently completed segment of the proceeding for the producer of the merchandise; and (4) the cash deposit rate for all other producers or exporters will continue to be 13.61 percent, the all-others rate established in the less-than-fair value investigation.²⁵ These cash deposit requirements, when imposed, shall remain in effect until further notice.

²⁵ See Order, 84 FR at 29171.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these results in accordance with sections 751(a)(1) and 777(i)(1) of the Act and 19 CFR 351.221(b)(4).

Dated: September 26, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Affiliation and Collapsing

V. Discussion of the Methodology

VI. Currency Conversion

VII. Recommendation

Appendix II

Companies Rescinded From Administrative Review

(1) Aditya Chemicals

(2) Avid Organics Private Limited

(3) Bajaj Healthcare Limited

(4) Eagle Chemical Works

(5) Elementis Specialties India Pvt.

(6) Euroasias Organics Pvt., Ltd.

(7) Global Merchants

(8) Gulbrandsen Technologies (India) Pvt. Ltd.

(9) J.R. Corporation

(10) Kronox Lab Sciences Pvt. Ltd.

(11) Lucas Tvs Limited

(12) Medilane Healthcare Pvt. Ltd.

(13) Mumbai Merchant

(14) Natural and Essential Oils Pvt., Ltd.

(15) Nature Bio

(16) Priya Chemicals

(17) Reliance Corporation

(18) Rexisize Rasayan Industries

(19) Rudraa International

(20) Shari Pharmachem Pvt., Ltd.

(21) Tarkesh Trading Co.

(22) Valaji Pharma Chem.

(23) Venus International

[FR Doc. 2025-20175 Filed 11-17-25; 8:45 am]

BILLING CODE 3510-DS-P